DEPARTMENT OF LABOR

Employment and Training Administration

[TA-W-55,199] and [TA-W-55,199A]

Brown City Wire Company ADP TotalSource, a Subsidiary of KenSa LLC, Formerly Known as Clements Manufacturing LLC, Harbor Beach, Michigan and Deckerville Wire, Inc. ADP TotalSource, a Subsidiary of KenSa LLC, Formerly Known as Clements Manufacturing LLC, Harbor Beach, Michigan, Amended Certification Regarding Eligibility To Apply for Worker Adjustment Assistance

In accordance with Section 223 of the Trade Act of 1974 (19 USC 2273) the Department of Labor issued a Certification of Eligibility to Apply for Worker Adjustment Assistance on July 12, 2004, applicable to workers of Brown City Wire Company, a subsidiary of Clements Manufacturing LLC, Harbor Beach, Michigan and Deckerville Wire, Inc., a subsidiary of Clement Manufacturing LLC, Harbor Beach, Michigan. The notice was published in the Federal Register on August 3, 2004 (69 FR 46575).

At the request of the State agency, the Department reviewed the certification for workers of the subject firm. The workers produce automobile wire harnesses.

The company reports that as of September 1, 2004, KenSa LLC, formerly known as Clements Manufacturing LLC, is the parent firm of Brown City Wire Company and Deckerville Wire, Inc. The company also reports that in January, 2004, employees of Brown City Wire Company and Deckerville Wire Company became employees and ADP TotalSource and that worker wages are reported under the Unemployment Insurance tax accounts for Brown City Wire Company, ADP TotalSource and Deckerville Wire, Inc., ADP TotalSource.

Accordingly, the Department is amending the certification to properly reflect these matters.

The intent of the Department's certification is to include all workers of the subject firms adversely affected by a shift in production to Mexico.

The amended notice applicable to TA-W-55,199 and TA-W-55,199A are hereby issued as follows:

“All workers of Brown City Wire Company, ADP TotalSource a subsidiary of KenSa LLC, formerly known as Clements Manufacturing LLC, Harbor Beach, Michigan (TA-W-55,199) and Deckerville Wire, Inc., ADP TotalSource, a subsidiary of KenSa LLC, formerly known as Clements Manufacturing LLC, Harbor Beach, Michigan (TA-W-55,199A), who became totally or partially separated from employment on or after August 23, 2004, through July 12, 2006, are eligible to apply for adjustment assistance under Section 223 of the Trade Act of 1974.”

Signed at Washington, DC this 2nd day of September 2004.
Elliott S. Kushner,
Certifying Officer, Division of Trade Adjustment Assistance.

[FR Doc. 04-20871 Filed 9-15-04; 8:45 am]

BILLING CODE 4510-30-M